DEPARTMENT OF ENERGY

Federal Energy Regulatory Commission

[Docket No. OR02-8-000]

Big West Oil, LLC 333 West Center Street, Salt Lake City, Utah 84054; Chevron Products Company, 2351 N. 1100 West, Salt Lake City, UT 84116; Sinclair Oil Corporation, 550 East South Temple, Salt Lake City, UT 84102 and Tesoro Refining and Marketing Company, 300 Concord Plaza Dr., San Antonio, Texas 78216; Complainants, v. Express Pipeline LLC, Suite 2500, 255 5th Avenue, SW, Calgary, Alberta T2P 3G6, Canada, Respondent; Notice of Complaint

April 30, 2002.

Take notice that on April 26, 2002, Big West Oil LLC (Big West), Chevron Products Company (Chevron), Sinclair Oil Corporation (Sinclair) and Tesoro Refining and Marketing Company (Tesoro) tendered for filing a Complaint against Express Pipeline LLC (Express). Big West, Chevron, Sinclair and Tesoro state in their Complaint that their refineries use substantial quantities of crude oil and synthetic crude oil (syncrude) that have been transported from Canada on the Express pipeline system. Big West, Chevron, Sinclair and Tesoro allege that the rates Express is charging for pipeline transportation service from the US/Canadian Border to Casper, Wyoming are unjust and unreasonable and, therefore, in violation of the Interstate Commerce Act. Big West, Chevron, Sinclair and Tesoro further maintain that Express has violated and is continuing to violate the Interstate Commerce Act by improperly shifting costs to its shippers for the transfer of crude petroleum from the Express pipeline to a pipeline operated by Frontier Pipeline Company.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 16, 2002. Protests will be considered by the Commission in determining the appropriate action to be taken, but will not serve to make protestants parties to the proceeding. Any person wishing to become a party must file a motion to intervene. Answers to the complaint shall also be due on or before May 16, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Magalie R. Salas,
Secretary.

[FR Doc. 02-11143 Filed 5-3-02; 8:45 am]

BILLING CODE 6717-01-P